DEPARTMENT OF AGRICULTURE

Foreign Agricultural Service

Trade Adjustment Assistance for Farmers

AGENCY: Foreign Agricultural Service, USDA.

ACTION: Notice.

The Administrator, Foreign Agricultural Service (FAS), terminated the certification of a petition for trade adjustment assistance (TAA) on December 12, 2006, that was filed by a group of Florida avocado producers. Florida avocado producers are no longer eligible for TAA benefits in fiscal year 2007.

SUPPLEMENTARY INFORMATION: Upon investigation, the Administrator determined that U.S. producer prices for fresh Florida avocados were 39 percent higher than the base five-year average price. Therefore, producer prices were no longer a contributing factor for program eligibility—a requirement for TAA program eligibility and therefore insufficient grounds to re-certify this petition.

FOR FURTHER INFORMATION CONTACT: Jean-Louis Pajot, Coordinator, Trade Adjustment Assistance for Farmers, FAS, USDA, (202) 720-2916, e-mail: trade.adjustment@fas.usda.gov.

Dated: January 5, 2007.
W. Kirk Miller,
Acting, Administrator Foreign Agricultural Service.

[FR Doc. 07-148 Filed 1-11-07; 4:17 pm]

BILLING CODE 3410-10-M